GENERAL SERVICES ADMINISTRATION

41 CFR Chapters 101 and 102

[Notice-MA-2017-03; Docket 2017-0002; Sequence No. 7]

Evaluation of Existing Federal Management and Federal Property Management Regulations; Extension of Comment Period

AGENCY: General Services Administration (GSA).

ACTION: Request for comments; extension of comment period.

SUMMARY: GSA issued a request on May 30, 2017 seeking input by July 31, 2017. The comment period is extended until August 14, 2017, to provide additional time for interested parties to review and submit comments on the request.

DATES: The comment period for the document published in the Federal Register at 82 FR 24651, May 30, 2017, is extended for 14 days.

Comment Date: Interested parties should submit comments to the Regulatory Secretariat at one of the addresses shown below on or before August 14, 2017.

ADDRESSES: Submit comments identified by “Notice-MA-2017-03, Evaluation of Existing Federal Management and Federal Property Regulations” by any of the following methods:

• Regulations.gov: http://www.regulations.gov. Submit comments via the Federal eRulemaking portal by searching for Notice-MA-2017-03, Evaluation of Existing Regulations. Select the link “Comment Now” that corresponds with “Notice-MA-2017-03, Evaluation of Existing Federal Management and Federal Property Management Regulations.” Follow the instructions provided on the screen. Please include your name, company name (if applicable), and “Notice-MA-2017-03, Evaluation of Existing Federal Management and Federal Property Management Regulations” on your attached document.

• Google form found at: https://goo.gl/forms/EzesI5HeTP7SGZpD3.

If you are commenting via the google form, please note that each regulation or part that you are identifying for repeal, replacement or modification should be entered into the form separately. This will assist GSA in its tracking and analysis of the comments received.

• Mail: General Services Administration, Regulatory Secretariat Division (MVCB), 1800 F Street NW., Washington, DC 20405.

GSA requests that comments be as specific as possible, include any supporting data, detailed justification for your proposal, or other information such as cost information, provide a Code of Federal Regulations (CFR) or Federal Register (FR) citation when referencing a specific regulation, and provide specific suggestions regarding repeal, replacement or modification.

FOR FURTHER INFORMATION CONTACT: Mr. Bob Holcombe, Director, Personal Property, Office of Government-wide Policy, 202-501-3828 or via email at robert.holcombe@gsa.gov.

SUPPLEMENTARY INFORMATION: GSA published a request in the Federal Register at 82 FR 24651, May 30, 2017 seeking input on federal management and federal property management regulations. The comment period is extended to provide additional time for interested parties to the review and submit comments on the request.

Dated: July 18, 2017.
Michael Downing,
Regulatory Reform Officer, Office of the Administrator.

[FR Doc. 2017-15457 Filed 7-28-17; 8:45 am]

BILLING CODE 6820-14-P